DEPARTMENT OF ENERGY

Federal Energy Regulatory Commission

[Docket Nos. RP96-312-055 and CP00-65-004]

Tennessee Gas Pipeline Company; Notice of Negotiated Rate and Compliance Filing

June 14, 2001.

Take notice that on June 11, 2001, pursuant to Section 4 of the Natural Gas Act, Part 154 of the Regulations of the Federal Energy Regulatory Commission, 18 CFR Part 154 and the Commission's February 23, 2001 Order Issuing Certificates and Authorizing Abandonment in Docket No. CP00-65, Tennessee Gas Pipeline Company (Tennessee), tendered for filing and approval (1) a Gas Transportation Agreement between Tennessee and eCORP Marketing, L.L.C. (eCORP) pursuant to Tennessee's Rate Schedule FT-A for service on Tennessee's mainline system (Mainline Service Agreement); and (2) a Gas Transportation Agreement between Tennessee and eCorp pursuant to Tennessee's Rate Schedule FT-A for service on Tennessee's Stagecoach Lateral (Lateral Service Agreement). Tennessee requests that the Commission accept and approve on an expedited basis the negotiated rates in the Mainline Service Agreement and the Lateral Service Agreement to be effective on their respective commencement dates. Tennessee also requests that the Commission find that a June 5, 2001 Gas Transportation Agreement, between eCORP and Tennessee (“eCORP Agreement”) does not contain any material deviation from Tennessee's pro forma FT-A Service Agreement. Alternatively, if the Commission finds that the eCORP Agreement contains a material deviation, Tennessee requests that the Commission approve the eCORP Agreement.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

Linwood A. Watson, Jr.,
Acting Secretary.

[FR Doc. 01-15507 Filed 6-19-01; 8:45 am]

BILLING CODE 6717-01-M